DEPARTMENT OF ENERGY

Environmental Management Site-Specific Advisory Board, Savannah River Site; Meeting

AGENCY: Office of Environmental Management, Department of Energy.

ACTION: Notice of open meeting.

SUMMARY: This notice announces a meeting of the Environmental Management Site-Specific Advisory Board (EM SSAB), Savannah River Site. The Federal Advisory Committee Act requires that public notice of this meeting be announced in the Federal Register.

DATES: Monday, September 23, 2019, 1:00 p.m.-5:00 p.m.; Tuesday, September 24, 2019, 9:00 a.m.-5:00 p.m.

ADDRESSES: Francis Marion, 387 King Street, Charleston, SC 29403.

FOR FURTHER INFORMATION CONTACT: Amy Boyette, Office of External Affairs, U.S. Department of Energy, Savannah River Operations Office, P.O. Box A, Aiken, SC 29802; Phone: (803) 952-6120.

SUPPLEMENTARY INFORMATION: Purpose of the Board: The purpose of the Board is to make recommendations to DOE-EM and site management in the areas of environmental restoration, waste management, and related activities.

Tentative Agenda

Monday, September 23, 2019

Opening, Chair Update, and Agenda Review

Agency Updates

Administrative & Outreach Committee Update

Facilities Disposition & Site Remediation Committee Update

Nuclear Materials Committee Update

Strategic & Legacy Management Committee Update

Waste Management Committee Update

Break

Presentation: Solar Power Study Update

Draft Recommendations

Public Comments

Recess

Tuesday, September 24, 2019

Reconvene

Agenda Review

Presentations:

• Liquid Waste Operations Update

• Liquid Waste Regulatory Update

Lunch Break

Presentations:

• Saltstone Reliability

• Salt Waste Processing Facility Update

• Tank Closure Cesium Removal (TCCR) Program Update

• Federal Advisory Committee Act

Public Comments

Voting

Adjourn

Public Participation: The meeting is open to the public. The EM SSAB, Savannah River Site, welcomes the attendance of the public at its advisory committee meetings and will make every effort to accommodate persons with physical disabilities or special needs. If you require special accommodations due to a disability, please contact Amy Boyette at least seven days in advance of the meeting at the telephone number listed above. Written statements may be filed with the Board either before or after the meeting. Individuals who wish to make oral statements pertaining to agenda items should contact Amy Boyette's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Amy Boyette at the address or telephone number listed above. Minutes will also be available at the following website: http://cab.srs.gov/srs-cab.html.

Signed in Washington, DC, on August 27, 2019.
LaTanya Butler,
Deputy Committee Management Officer.

[FR Doc. 2019-18952 Filed 9-3-19; 8:45 am]

BILLING CODE 6450-01-P